DEPARTMENT OF ENERGY

Federal Energy Regulatory Commission

[Docket Nos. ER00-936-001 and ER00-937-001]

Southern Energy Delta, L.L.C. and Southern Energy Potrero, L.L.C.; Notice of Convening Session

June 1, 2000.

On May 22, 2000, the Commission issued an Order on Rehearing in Southern Energy Delta, L.L.C. and Southern Energy Potrero, L.L.C., 91 FERC ¶ 61,117 (2000). In that order, the Commission granted rehearing, in part, and set the remainder of the dispute for an alternative dispute resolution proceeding. The Commission directed the Director of the Commission's Dispute Resolution Service to convene the parties for the purpose of an alternative dispute resolution proceeding. Accordingly, a convening session will be held to address what processes can be taken to reach a consensual agreement, including whether to use an alternative dispute resolution process and/or an appropriate third party neutral.

The convening session will be held on June 8, 2000, at the Federal Energy Regulatory Commission located at 888 First Street, N.E., Washington, D.C. The conference will begin at 10:00 a.m. in Hearing Room 7. Moreover, at the request of the parties, the remainder of June 8 as well as June 9 will be available to allow the parties to proceed with settlement discussion if such action is appropriate.

All interested parties are invited to attend the convening session. If a party has any questions with respect to the convening session, please contact Richard Miles, the Director of the Dispute Resolution Service or Amy Blauman. His telephone number is 1-877 FERC ADR (337-2237) or 202-208-0702 and his e-mail address is richard.miles@ferc.fed.us. Amy's phone number is 202-208-2143 and her E-mail address is amy.blauman@ferc.fed.us.

Linwood A. Watson, Jr.,
Acting Secretary.

[FR Doc. 00-14121 Filed 6-5-00; 8:45 am]

BILLING CODE 6717-01-M